FEDERAL COMMUNICATIONS COMMISSION

47 CFR Part 1

[WC Docket Nos. 19-195 and 11-10; Report No. 3172; FRS 27325]

Petitions for Reconsideration of Action in Rulemaking Proceeding

AGENCY: Federal Communications Commission.

ACTION: Petitions for Reconsideration.

SUMMARY: Petitions for Reconsideration (Petitions) have been filed in the Commission's rulemaking proceeding by Thomas C. Power, on behalf of CTIA.

DATES: Oppositions to the Petitions must be filed on or before June 4, 2021. Replies to an opposition must be filed on or before June 14, 2021.

ADDRESSES: Federal Communications Commission, 45 L Street NE, Washington, DC 20554.

FOR FURTHER INFORMATION CONTACT: Eli Johnson, Wireless Telecommunications Bureau, (202) 418-1395 or Eli.Johnson@fcc.gov.

SUPPLEMENTARY INFORMATION: This is a summary of the Commission's document, Report No. 3172, which was released May 11, 2021. The full text of the Petitions can be accessed online via the Commission's Electronic Comment Filing System at: http://apps.fcc.gov/ecfs/. The Commission will not send a Congressional Review Act (CRA) submission to Congress or the Government Accountability Office pursuant to the CRA, 5 U.S.C. 801(a)(1)(A), because the Commission is not adopting any rules.

Subject: Establishing the Digital Opportunity Data Collection and Modernizing the FCC Form 477 Data Program, FCC 20-94, published at 85 FR 50886, August 18, 2020 and FCC 21-20, published at 86 FR 18124, April 7, 2021, in WC Docket Nos. 19-195 and 11-10. This document is being published pursuant to 47 CFR 1.429(e). See also 47 CFR 1.4(b)(1) and 1.429(f), (g).

Number of Petitions Filed: 2.

Federal Communications Commission.
Marlene Dortch,
Secretary, Office of the Secretary.

[FR Doc. 2021-10591 Filed 5-19-21; 8:45 am]

BILLING CODE 6712-01-P